DEPARTMENT OF STATE

[Public Notice 6199]

Notice of Intent To Conduct Supplemental Scoping Meeting; Enbridge Energy, Limited Partnership's Proposed Alberta Clipper Project

AGENCY: Department of State.

ACTION: Notice of Intent to Conduct Supplemental Scoping Meeting; Enbridge Energy, Limited Partnership's Proposed Alberta Clipper Project.

This Notice provides information concerning an additional public scoping meeting to be held in connection with Enbridge Energy, Limited Partnership's (“EELP”) application to the Department of State for a Presidential permit for facilities at the U.S.-Canada border related to its proposed Alberta Clipper pipeline project. The Department published a “Notice of Intent to Prepare an Environmental Impact Statement” (EIS) for this project on March 31, 2008, (73 FR 16920-02). The Department has determined that an additional scoping meeting, open to the public, would be beneficial to ensure that all stakeholders have a full opportunity to provide comment on the content and scope of the EIS.

This meeting has been scheduled for May 8, 2008 from 6 p.m. to 10 p.m. The meeting will be held at: Clearbrook City Hall Band Room, 200 Elm St. SE., Clearbrook, MN.

The Department of State is preparing an (EIS) under the National Environmental Policy Act (NEPA) to address reasonably foreseeable impacts from the proposed action and alternatives to the proposed action. In preparing the EIS, the Department will comply with the Council of Environmental Quality's recommended EIS format as identified in its “Regulations for Implementing NEPA”—regulations 1502.10-1502.18. In connection with its preparation of the EIS, the Department will also comply with Section 106 of the Historic Preservation Act and Section 7 of the Endangered Species Act.

On July 27, 2007, the Department of State provided public notice of its intent to conduct scoping meetings on the Alberta Clipper Project (72 FR 41381). The Department held twelve public scoping meetings along the proposed pipeline route in August 2007, received comments during the 45-day public comment period, and consulted with federal and state agencies and Native American tribes.

FOR FURTHER INFORMATION CONTACT: For information on the proposed project or to receive a copy of the Draft Alberta Clipper EIS when it is issued, contact Elizabeth Orlando at OES/ENV Room 2657, U.S. Department of State, Washington, DC 20520, or by telephone (202) 647-4284, or by fax at (202) 647-5947, or by e-mail at albertaclipper@state.gov.

All public documents related to EELP's permit application, including EELP's permit application and the draft EIS when produced, can be viewed and downloaded at http://albertaclipper.state.gov. This site will accept public comments for the record.

SUPPLEMENTARY INFORMATION: Enbridge Energy, Limited Partnership (“EELP”) has applied to the Department of State for a Presidential Permit, pursuant to Executive Order 13337 of April 30, 2004, to construct, connect, operate, and maintain facilities at the U.S.-Canadian border near Neche, Pembina County, North Dakota, related to a 36-inch diameter crude oil and liquid hydrocarbon pipeline for the purpose of transporting liquid hydrocarbons and other petroleum products between the United States and Canada.

In the U.S., the Alberta Clipper Project would consist of approximately 326 miles of new 36-inch-diameter pipeline from the United States-Canada border near Neche, North Dakota to the existing EELP tank farm in Superior, Wisconsin. EELP proposes to construct the pipeline generally along its existing pipeline right-of-ways.

U.S. counties that could possibly be affected by construction of the proposed pipeline are:

North Dakota: Pembina.

Minnesota: Kittson, Marshall, Pennington, Red Lake, Polk, Clearwater, Beltrami, Hubbard, Cass, Itasca, Aitkin, St. Louis, Carlton.

Wisconsin: Douglas.

Issued in Washington, DC, on April 22, 2008.
Stephen J. Gallogly,
Director, International Energy and Commodity Policy, Department of State.

[FR Doc. E8-9243 Filed 4-25-08; 8:45 am]

BILLING CODE 4710-07-P